DEPARTMENT OF THE INTERIOR

Bureau of Indian Affairs

Grand Traverse Band of Ottawa and Chippewa Indians—Sale and Consumption of Alcoholic Beverages

AGENCY: Bureau of Indian Affairs, Interior.

ACTION: Notice.

SUMMARY: This notice publishes the Grand Traverse Band of Ottawa and Chippewa Indians' Liquor Control Ordinance. The Ordinance regulates and controls the possession, sale and consumption of liquor within the Grand Traverse Band of Ottawa and Chippewa Indians' tribal lands. This Ordinance allows for the possession and sale of alcoholic beverages within the Grand Traverse Band of Ottawa and Chippewa Indians' tribal lands, permits alcohol sales by tribally licensed vendors, and increases the ability of the tribal government to control the tribe's liquor distribution and possession. At the same time, it will provide an important source of revenue for the continued operation and strengthening of the tribal government and the delivery of tribal services.

EFFECTIVE DATE: This Ordinance is effective on June 13, 2005.

FOR FURTHER INFORMATION CONTACT: De Springer, Regional Tribal Operations Officer, Bureau of Indian Affairs, Midwest Regional Office, Bishop Henry Whipple Federal Building, One Federal Drive, Room 550, Ft. Snelling, MN 55111, Phone 612-713-4400, ext 1125, Fax 612-713-4401; or Ralph Gonzales, Division of Tribal Justice Support, Office of Tribal Services, 1951 Constitution Avenue, NW., Mail Stop 320-SIB, Washington, DC 20240; Telephone (202) 513-7629.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Grand Traverse Band of Ottawa and Chippewa Indians adopted its Liquor Control Ordinance No. 93-114 on November 23, 1993 by Resolution No 93-11.84 on November 24, 1993 and amended by Resolution No. 04-22.1417 on July 28, 2004. The purpose of this Ordinance is to govern the sale, possession and distribution of alcohol within the Grand Traverse Band of Ottawa and Chippewa Indians' tribal lands.

This notice is published in accordance with the authority delegated by the Secretary of the Interior to the Principal Deputy Assistant Secretary—Indian Affairs.

I certify that this Liquor Ordinance, of the Grand Traverse Band of Ottawa and Chippewa Indians, was duly adopted by the Tribal Council on November 24, 1993 and amended by Resolution No. 04-22.1417 on July 28, 2004.

Dated: June 7, 2005.
Michael D. Olsen,
Acting Principal Deputy Assistant Secretary—Indian Affairs.

The Grand Traverse Band of Ottawa and Chippewa Indians' Liquor Ordinance reads as follows:

Liquor Control Ordinance—GTB Ordinance No. 93-114, as Amended July 28, 2004

Statement of Purpose: An ordinance to regulate the consumption, possession, delivery and/or sale of alcoholic beverage within Tribal lands of the Grand Traverse Band of Ottawa and Chippewa Indians, for the purpose of protecting the health, safety and welfare of the Tribe and its members as well as the general public.

BE IT ENACTED by the Tribal Council of the Grand Traverse Band of Ottawa and Chippewa Indians the following ordinance:

Section 1. Short Title

This ordinance may be cited as the “Liquor Ordinance” of the Grand Traverse Band of Ottawa and Chippewa Indians.

Section 2. Authority

As required by 18 U.S.C. 1161, this ordinance is in conformity with those provisions of State law which are adopted in this ordinance as Tribal law, and is enacted pursuant to Article IV of the Constitution of the Grand Traverse Band of Ottawa and Chippewa Indians.

Section 3. Interpretation

This ordinance shall be deemed an exercise of the police and regulatory powers of the Grand Traverse Band of Ottawa and Chippewa Indians in order to promote Tribal self-determination and to protect the public welfare, and all provisions of this ordinance shall be liberally construed for the accomplishment of these purposes. Nothing in this ordinance may be construed as a waiver of Tribal sovereign immunity.

Section 4. Definitions

In this ordinance, unless the context otherwise requires:

(a) “Alcoholic beverage” means any spirituous, vinous, malt or fermented liquor, liquid or compound, whether or not medicated, proprietary, patented, and by whatever name called, containing one-half of one percent (.5%) or more alcohol by volume, and which is commonly used or reasonably adopted to use for beverage purposes.

(b) “Liquor” means any alcoholic beverage.

(c) “Person” means a natural person, firm, association, corporation, or other legal entity.

(d) “Premises” means specified locations within Tribal lands where alcoholic beverages may be sold as described in a license issued by the Tribal Council.

(e) “Secretary” means the Secretary of the United States Department of the Interior.

(f) “State” means the State of Michigan, which regulates matters pertaining to the consumption, possession, delivery and/or sale of alcoholic beverages within the State through its Liquor Control Commission.

(g) “Tribal Council” means the Tribal Council of the Grand Traverse Band of Ottawa and Chippewa Indians.

(h) “Tribal lands” means:

(1) Land within the limits of the Grand Traverse Band of Ottawa and Chippewa Indians' reservation, notwithstanding the issuance of any patent, and including rights-of-way running through the reservation; and/or

(2) Land over which the Grand Traverse Band of Ottawa and Chippewa Indians exercises governmental power and which is either held in trust by the United States for the benefit of the Grand Traverse Band, or held by the Tribe or by one of its members subject to restriction by the United States against alienation.

(i) “Tribal license” means an official action by the Tribal Council which authorizes the sale of alcoholic beverages for consumption either on the premises and/or away from the premises. The sale and/or delivery of alcoholic beverages intended for consumption away from Tribal lands must also comply with those provisions of State law which are adopted as Tribal law in this ordinance.

(j) “Tribal representative” means the Tribal Manager, a program director, or manager of a subsidiary enterprise of the Tribe.

(k) “Tribe” means the Grand Traverse Band of Ottawa and Chippewa Indians.

(l) “Vendor” means a person licensed under this ordinance to sell alcoholic beverages, or a person employed by a vendor to do so.

Section 5. Public Policy Declared

(a) It is the policy of the Tribe that no sale, delivery, or importation of alcoholic beverages shall occur in Tribal lands unless such sale, delivery, or importation is by a person licensed under this ordinance to do so, or by prior written order of the Tribal Council. All alcoholic beverages for sale, use, storage, or distribution in Tribal lands shall originally be purchased by and imported into Tribal lands by a person licensed under this ordinance to do so, or by prior written order of the Tribal Council. This section shall not apply in the case of alcoholic beverages brought into Tribal lands personally by a person of legal age to purchase alcoholic beverages for personal or household use.

Section 6. General Provisions

(a) Except in compliance with this ordinance, no person shall sell, trade, transport, manufacture, use, or possess any alcoholic beverage or any other substance whatsoever which is capable of producing alcohol or other intoxication, intended for consumption on the premises, nor may any person aid or abet another person in any of the foregoing.

(b) No vendor shall permit any person under legal age on premises licensed under this ordinance, unless accompanied by an adult who is the legal guardian or parent of that minor.

(c) No vendor shall sell, serve or allow to be consumed on premises licensed under this ordinance, alcoholic beverages other than during the hours permitted by its license.

(d) Except in compliance with this ordinance, no person shall sell, trade, transport, manufacture, use, or possess any alcoholic beverage or any other substance whatsoever which is capable of producing alcohol or other intoxication, intended for distribution away from the premises, nor may any person aid or abet another person in any of the foregoing.

(e) It shall be a violation of this ordinance for any person, by himself or by his agent or employee, to sell, offer for sale, expose for sale, or possess, any alcoholic beverage which is adulterated or misbranded or any alcoholic beverage in bottles which have been refilled. For the purposes of this section, alcoholic beverages shall be deemed adulterated if they contain any liquid or other ingredient not placed there by the original manufacturer or bottler. For the purposes of this section, alcoholic beverages shall be deemed misbranded when not plainly labeled, marked or otherwise designated. For the purposes of this section, alcoholic beverage bottles shall be deemed to be refilled when the bottles contain any liquid or other ingredient not placed in the bottles by the original manufacturer.

(f) It shall be a violation of this ordinance for any vendor to sell or furnish any alcoholic beverage to a person unless that person has attained 21 years of age. No vendor may knowingly sell or furnish any alcoholic beverage to a person who is younger than 21 years of age, or fail to make diligent inquiry as to whether the person is 21 years of age. A suitable sign which describes this section and the penalties for violating this section shall be posted in a conspicuous place in each room where alcoholic beverages are sold.

(g) It shall be a violation of this ordinance for any vendor to sell or furnish any alcoholic beverage to any person who is visibly intoxicated at the time, or who is known to the vendor to be a habitual drunkard.

(h) It shall be a violation of this ordinance for any person younger than 21 years of age to purchase, attempt to purchase, possess or consume any alcoholic beverage, or for such a person to misrepresent his age for the purpose of purchasing or attempting to purchase such alcoholic beverage.

(i) Upon attempt to purchase any alcoholic beverage on premises licensed under this ordinance by any person who appears to the vendor to be younger than 21 years of age, that vendor shall demand, and the prospective purchaser upon such demand shall display, satisfactory evidence that he is of legal age. It shall be a violation of this ordinance for any person to present to any vendor falsified evidence as to his age.

(j) No person licensed under this ordinance shall make any delivery of any alcoholic beverage outside the premises described in the license.

(k) No person, directly or indirectly, himself or herself or by his or her clerk, agent or employee shall manufacture, manufacture for sale, sell, offer or keep for sale, barter, furnish, or import, import for sale, transport for hire, or transport, or possess any alcoholic beverage unless that person complies with this ordinance.

(l) In order to retain its alcoholic beverage license under this ordinance, any Tribal operation is required to comply with other applicable Tribal law, as well as with the provisions of this ordinance.

Section 7. Tribal Alcoholic Beverage Licenses

(a) Upon written application by a Tribal representative, the Tribal Council may issue a license authorizing (1) the sale of alcoholic beverages intended solely for consumption on the premises, and/or (2) the sale of alcoholic beverages intended solely for consumption away from the premises.

(b) All such license applications must set forth the purpose for which the license is sought, together with a description of the premises upon which the alcoholic beverage sales are proposed to take place.

(c) In its sole discretion, the Tribal Council shall have the power and authority to determine the numbers and types of alcoholic beverage licenses to be issued pursuant to this ordinance.

Section 8. Complaint of Violation

(a) Any complaint regarding violation of any provision of this ordinance shall be referred to the Tribal Prosecutor, who may cause such complaint to be placed in writing and served personally or by registered mail upon the licensee or other person against whom that complaint is made.

(b) A hearing on any such complaint shall be held by the Tribal Court not less than 7 days nor more than 28 days after service of the complaint upon the licensee or other person against whom that complaint is made.

(c) Any Indian person (defined in Section 3.201 of the Tribe's Criminal Code) who violates any provision of this ordinance may be charged with a misdemeanor criminal offense and may be prosecuted pursuant to Section 3.718 of the Tribe's Criminal Code. If convicted, the Tribal Court may impose a fine of not greater than $1000.00, or imprisonment not exceeding 60 days in the Tribal jail, or by both such fine and imprisonment.

(d) Any non-Indian person who violates any provision of this ordinance may be charged with and prosecuted for a civil offense, and if convicted, may be subject to civil sanctions which the Tribal Council may prescribe, and/or may be excluded from Tribal lands.

(e) Any person under the jurisdiction of the Tribe who violates any provision of this ordinance for which a specific penalty is not provided, shall be subject to a fine of not less than $100.00, nor more than $5000.00, or by imprisonment in the Tribal jail for not more than 60 days, or by both such fine and imprisonment, plus costs.

Section 9. Severability

(a) If any section or provision of this ordinance or the application thereof to any party or class, or to any circumstances, shall be held to be invalid for any cause whatsoever, the remainder of this ordinance shall not be affected thereby and shall remain in full force and effect as though no part thereof had been declared to be invalid.

(b) All prior ordinances and resolutions or provisions thereof which are repugnant to or inconsistent with any provision of this ordinance are hereby repealed.

Section 10. Amendment or Repeal of This Ordinance

This ordinance may be amended or repealed only by majority vote of the Tribal Council in regular session.

Section 11. Effective Date

The effective date of this ordinance shall be the date upon which it is certified by the Secretary or his delegate and published in the Federal Register in accordance with Title 18 of the United States Code, Section 1161.

[FR Doc. 05-11609 Filed 6-10-05; 8:45 am]

BILLING CODE 4310-4J-P